DEPARTMENT OF JUSTICE

Antitrust Division

Notice Pursuant to the National Cooperative Research and Production Act of 1993—Consortium for Battery Innovation

Notice is hereby given that, on January 15, 2021, pursuant to Section 6(a) of the National Cooperative Research and Production Act of 1993, 15 U.S.C. 4301 et seq. (“the Act”), Consortium for Battery Innovation (“CBI”) has filed written notifications simultaneously with the Attorney General and the Federal Trade Commission disclosing changes in its membership. The notifications were filed for the purpose of extending the Act's provisions limiting the recovery of antitrust plaintiffs to actual damages under specified circumstances. Specifically, Owens Corning, Apeldoorn, THE NETHERLANDS; Eastman Auto & Power LTD; Solan, Himachal Preadesh, INDIA; Birla Carbon, Marietta, GA; and Hollingsworth & Vose Company, East Walpole, MA have been added as parties to this venture.

Also, Microtex Energy Private Limited, Bengaluru, INDIA; Tydrolyte LLC, Troy, MI and EnerG2 Technologies, Seattle, WA have withdrawn as parties to this venture.

No other changes have been made in either the membership or planned activity of the group research project. Membership in this group research project remains open, and CBI intends to file additional written notifications disclosing all changes in membership.

On May 24, 2019, CBI filed its original notification pursuant to Section 6(a) of the Act. The Department of Justice published a notice in the Federal Register pursuant to Section 6(b) of the Act on June 21, 2019 (84 FR 29241).

The last notification was filed with the Department on June 16, 2020. A notice was published in the Federal Register pursuant to Section 6(b) of the Act on July 16, 2020 (85 FR 43261).

Suzanne Morris,
Chief, Premerger and Division Statistics, Antitrust Division.

[FR Doc. 2021-02928 Filed 2-11-21; 8:45 am]

BILLING CODE P